DEPARTMENT OF DEFENSE

Department of the Army

Notice of Availability of a Draft Environmental Impact Statement (DEIS) for Base Closure and Realignment (BRAC) Actions at Fort Lee, VA

AGENCY: Department of the Army, DoD.

ACTION: Notice of Availability (NOA).

SUMMARY: The Department of the Army announces the availability of a DEIS which evaluates the potential environmental impacts associated with realignment actions directed by the Base Closure and Realignment (BRAC) Commission at Fort Lee, Virginia.

DATES: The public comment period for the DEIS will end 45 days after publication of this NOA in the Federal Register by the U.S. Environmental Protection Agency.

ADDRESSES: Please send written comments on the DEIS to the following: Fort Lee (proponent): Ms. Carol Anderson, Attention: IMNE-LEE-PWE, 1816 Shop Rd., Fort Lee, Virginia 23801-1604, or via e-mail at CRMLee@lee.army.mil.

FOR FURTHER INFORMATION CONTACT: Ms. Carol Anderson at (804) 734-5071 (Fort Lee), or Ms. Terry Banks at (804) 633-8223 (Fort A.P. Hill) during normal business hours Monday through Friday.

SUPPLEMENTARY INFORMATION: The subject of the DEIS and the Proposed Action are the construction and renovation activities at both installations, movement of personnel to Fort Lee, and related field training activities at Fort A.P. Hill associated with the BRAC-directed realignment of Fort Lee.

To implement the BRAC recommendations, Fort Lee will be receiving personnel, equipment, and missions from various closure and realignment actions within DoD. To implement the BRAC Commission recommendations, the Army will provide the necessary facilities, buildings, and infrastructure to support the establishment of a Sustainment Center of Excellence, a Joint Center for Consolidated Transportation Management Training, and a Joint Center of Excellence for Culinary Training at Fort Lee; locate various offices of the Defense Contract Management Agency (DCMA) Headquarters at Fort Lee; and receive all components of the Defense Commissary Agency (DeCA) at Fort Lee. Additionally, facilities will be installed or constructed at Fort A.P. Hill to accommodate field training exercises and leadership skills training for Student Soldiers at Fort Lee. These actions will impact several areas at the installations.

Following rigorous examination of all implementation alternatives, those alternatives found not to be viable were dropped from further analysis in the Fort Lee and Fort A.P. Hill DEIS. Alternatives carried forward include (1) the Preferred Alternative and (2) a No Action Alternative. The Preferred Alternative includes construction, renovation, and operation of proposed facilities to accommodate incoming military missions at Fort Lee.

The DEIS analyses indicate that implementation of the preferred alternative will have long-term, significant adverse impacts on biological resources, cultural resources, socioeconomic resources (local school districts and community services), and the transportation network at Fort Lee and its surrounding area, and no long-term significant adverse impacts on any resources at Fort A.P. Hill or its surrounding area. Minor adverse impacts on all other resources at both installations would potentially occur from implementation of the preferred alternative.

The Army invites the general public, local governments, other Federal agencies, and state agencies to submit written comments or suggestions concerning the alternatives and analyses addressed in the DEIS. The public and government agencies are invited to participate in public meetings where oral and written comments and suggestions will be received. The public meetings will be held on October 25, 2006, from 7 p.m. to 9:30 p.m. at Union Station, 103 River Street, Petersburg, Virginia; and on October 26, 2006 from 7 p.m. to 9:30 p.m. at the Port Royal Town Hall, 419 King Street, Port Royal, Virginia.

An electronic version of the DEIS can be viewed or downloaded from the following URL: http://www.hqda.army.mil/acsim/brac/nepa_eis_docs.htm.

Dated: September 27, 2006.
Addison D. Davis, IV,
Deputy Assistant Secretary of the Army (Environment, Safety and Occupational Health).

[FR Doc. 06-8440 Filed 10-2-06; 8:45 am]

BILLING CODE 3701-08-M